DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 112 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable two-year period if it finds “such an exemption would likely achieve a level of safety that is equivalent to, or greater than, the level that would be achieved absent such an exemption.” The procedures for requesting an exemption are set out in 49 CFR part 381.

Accordingly, FMCSA evaluated 112 individual exemption requests on their merits and made a determination that these applicants do not satisfy the criteria eligibility or meet the terms and conditions of the Federal exemption program. Each applicant has, prior to this notice, received a letter of final disposition on his/her exemption request. Those decision letters fully outlined the basis for the denial and constitute final Agency action. The list published today summarizes the Agency's recent denials as required under 49 U.S.C. 31315(b)(4) by periodically publishing names and reasons for denials.

The following 14 applicants lacked sufficient driving experience during the 3-year period prior to the date of their application:

Richard L. Bilby

Phillip J. Collova

Layne Coscorrosa

Craig D. Delph

Jerry L. Gray

Daniel Hill

Matthew B. Lairamoe

James F. McMahon, Jr.

Gary R. Morgan

Dale E. Schoettmer

Jack Skaw

Edward S. Stout

Kenneth D. Summers

George R. Van Gelder

The following 11 applicants did not have any experience operating a CMV.

Joey J. Abney

Amy J. Armstrong

Anthony W. Armstrong

James Bay

John H. Beenenga

Leo M. Lampinen

Rod Mosby

Andrea R. Piatz

Litter Rivera

Sirrane Traylor

Plato Watkins

The following 22 applicants did not have 3 years of experience driving a CMV on public highways with the vision deficiency.

Dylan T. Arndt

Fred R. Ballard, Jr.

Dwight A. Bennett

Walter Crean, III

James E. Creswell

Chris Croteau

Jerold D. Endress

Alvaro Esparza

James L. Gordon

Jerry N. Greear

Semir Husnic

Edward Kimpel

Daryl C. Lenz

Robert D. Lotz

Guy E. McCraw

Eric R. Mills

Rodney Richardson

Matthew N.D. Robbins

Temistocles E. Sanchez

Thomes L. Steinbach

Glenn R. Theis

Gary E. Valentine

The following 7 applicants did not have 3 years of recent experience driving a CMV with the vision deficiency.

Leonard C. Jackson

Larry S. Keith

Oliver A. Murphy

Herbert Recore, Jr.

William Rogers

Jeffery C. Stokes

Lyndon W. Williams

The following 19 applicants did not have sufficient driving experience over the past 3 years under normal highway operating conditions.

Danny F. Ahlgren

Ronald Bishop

James W. Carpenter

Travis M. Christian

Sean Conorman

John Doyle

Herman Froehle

Steven H. Harris

Jason L. Hoovan

Jeffrey D. Huckle

Ronald L. Kitchens

Larry P. Magrath

Jame R. Salsgiver

Eric C. Sevier

Claude L. Snider, Sr.

Ronald C. Stringfellow

Douglas E. Weld

Scott Westphal

Casey Willis, Jr.

Two applicants, Martin L. Bailey and Darrol W. Rippee, had more than 2 commercial motor vehicle violations during the 3-year review period and/or application process. Each applicant is only allowed 2 moving citations.

One applicant, Joseph Ivey, did not have sufficient peripheral vision in his better eye to qualify for an exemption.

The following 7 applicants had commercial driver's license suspensions during the 3-year review period in relation to a moving violation. Applicants do not qualify for an exemption with a suspension during the 3-year period.

Gary Alvarez

Giovanni Cerino

Robert O. Dolphin

Todd Gilliam

Paul H. Glowinski

Ranjodh Singh

Stephen Whitt

One applicant, Robert D. Crumb, had 2 serious commercial motor vehicle violations within a 3-year period. Each applicant is only allowed a total of 2 moving violations, 1, which can be serious.

One applicant, Charles H. Allen, did not have verifiable proof of commercial driving experience over the past 3 years under normal highway operating conditions that would serve as an adequate predictor of future safe performance.

One applicant, Justin M. Pool, did not hold a license which allowed operation of vehicles over 10,000 pounds for all or part of the 3-year period.

The following 9 applicants were denied for miscellaneous/multiple reasons.

John P. Atkinson

Randy S. Benitez

Kevin Byrd

Gary M. Eggers

Bradley C. Hansell

Randall E. Harnack

Owen E. Jackson

Valentino Parker

Dustin A. Wilson

The following 4 applicants never submitted the required documents.

James R. Blair

Charles V. Fitzgerald

Herman Gray

Norman Patterson

Finally, the following 13 applicants met the current federal vision standards. Exemptions are not required for applicants that meet the current regulations for vision.

Jose F. Armenta

Carlos R. Cordova

Frederick L. Feyen

Kenneth A. Keen

Diana L. Martin

Freddie B. Mills

James W. Mize, Sr.

James A. Shearin

Oliver Smith

Kenneth L. Sutphin

Kenneth C. Thornton

Edward Werling

Leroy C. Williams

Issued on: March 27, 2009.
Larry W. Minor,
Associate Administrator for Policy and Program Development.

[FR Doc. E9-7560 Filed 4-3-09; 8:45 am]

BILLING CODE 4910-EX-P